DEPARTMENT OF LABOR

Employment and Training Administration

[TA-W-53,679]

General Cable, Taunton, MA; Notice of Negative Determination Regarding Application for Reconsideration

By application of February 4, 2004, the United Electrical, Radio and Machine Workers of America, District Council 2 requested administrative reconsideration regarding the Department's Negative Determination Regarding Eligibility to Apply for Worker Adjustment Assistance, applicable to the workers of the subject firm. The denial notice was published in the Federal Register on February 6, 2004 (69 FR 5866).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a misinterpretation of facts or of the law justified reconsideration of the decision.

The petition for the workers of General Cable, Taunton, Massachusetts was denied because criterion 2 of Section 222(b), as amended, was not met. The workers' firm was not a supplier or downstream producer to a firm that employed a group of workers who received a certification of eligibility to apply for trade adjustment assistance benefits and such supply or production is related to the article that was the basis for such certification. Other findings of the investigation determined that there were increases in General Cable sales and production of copper wire and unfinished PVC compounds from 2002 to 2003.

The petitioner states that the relevant period investigated by the Department is not an accurate measure in determining the workers eligibility for TAA and suggests that the Department should extend investigation back to the beginning of 2000 to reveal the secondary impact of foreign trade on the subject firm.

In addressing the Trade Act worker group eligibility criteria for secondarily affected workers, the Department is required to conduct an investigation for the relevant time period, which is one year or the four quarters, prior to the date of the petition, to establish if the firm is secondary affected. In order to be eligible as secondarily affected, the workers' firm must be a supplier firm and the component parts it supplied to a primary firm whose worker group is certified for TAA accounted for at least 20 percent of the supplier firm sales; or the loss of business by the workers' firm contributed importantly to the workers' separation or threat of separation. Although there were employment declines at General Cable there was no loss of business to a primary firm whose workers were certified eligible to apply for TAA.

The petitioner states that the closure of the General Cable, Montoursville, Pennsylvania in August of 2001 reduced significantly the volume of production at the Taunton facility, and consequently was a reason of the subject company's closure on December 31, 2003.

While the Department agrees that the loss of business with Montoursville facility might have led to worker separations from the subject firm in 2001, there is no evidence that the subject firm was secondary impacted during the relevant period. The subject firm did not supply copper wire and unfinished PVC compounds to the primary firm engaged in production whose workers are currently certified as trade impacted during the relevant time period.

Conclusion

After review of the application and investigative findings, I conclude that there has been no error or misinterpretation of the law or of the facts which would justify reconsideration of the Department of Labor's prior decision. Accordingly, the application is denied.

Signed at Washington, DC this 23rd day of March, 2004.
Linda G. Poole,
Certifying Officer, Division of Trade Adjustment Assistance.

[FR Doc. 04-12884 Filed 6-7-04; 8:45 am]

BILLING CODE 4510-30-P